DEPARTMENT OF TRANSPORTATION

Maritime Administration

[Docket No. MARAD-2002-13942]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before January 31, 2003.

FOR FURTHER INFORMATION CONTACT: Otto A. Strassburg, Maritime Administration, 400 Seventh St., SW., Washington, DC 20590. Telephone: 202-366-4161; FAX: 202-366-7901 or E-mail: joe.strassburg@marad.dot.gov.

Copies of this collection can also be obtained from that office.

SUPPLEMENTARY INFORMATION:

Title of Collection: Approval of Underwriters for Marine Hull Insurance.

Type of Request: Extension of currently approved information collection.

OMB Control Number: 2133-0517.

Form Numbers: None.

Expiration Date of Approval: Three years from date of approval by the Office of Management and Budget.

Summary of Collection of Information: This collection of information involves the approval of marine hull underwriters to insure MARAD program vessels. Foreign and domestic applicants will be required to submit financial data upon which MARAD approval would be based.

Need and Use of the Information: This information is needed in order that MARAD officials can evaluate the underwriters and determine their suitability for providing marine hull insurance on MARAD vessels.

Description of Respondents: Underwriters of marine insurance and marine insurance brokers.

Annual Responses: 62.

Annual Burden: 46 hours.

Comments: Comments should refer to the docket number that appears at the top of this document. Written comments may be submitted to the Docket Clerk, U.S. DOT Dockets, Room PL-401, 400 Seventh Street, SW., Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://dms.dot.gov.

By Order of the Maritime Administrator,
Dated: November 26, 2002.
Joel C. Richard,
Secretary, Maritime Administration.

[FR Doc. 02-30429 Filed 11-29-02; 8:45 am]

BILLING CODE 4910-81-P